FEDERAL COMMUNICATIONS COMMISSION

[EB Docket Nos. 01-172 and 01-173; DA 01-1829]

Consolidated Designation of Hearings To Adjudicate Damages Claims in Cases Involving U S WEST's 1-800 Calling Platform Service

AGENCY: Federal Communications Commission.

ACTION: Notice.

SUMMARY: On August 1, 2001, the Enforcement Bureau of the Federal Communications Commission (“Commission”) released a consolidated Hearing Designation Order (“HDO”) initiating hearings to adjudicate the damages claims of two interexchange carriers (“Complainants”) against U S WEST Communications, Inc., now known as Qwest (“U S WEST” or “Defendant”). To avail themselves of the opportunity to participate in this hearing, the parties are required to file a written Notice of Appearance with the Office of the Commission Secretary, stating an intention to appear on the date fixed for the hearing and present evidence on the issues specified in the HDO, within 20 days of the mailing of the HDO to the parties.

DATES: The HDO was mailed to the parties on August 1, 2001. The parties are required to file their Notice of Appearance by August 21, 2001.

ADDRESSES: Submit the Notice of Appearance to the Office of the Commission Secretary, Federal Communications Commission, 445 12th Street, SW., Room TW-204B, Washington DC 20554.

FOR FURTHER INFORMATION CONTACT: Christopher N. Olsen, 202-418-7332

SUPPLEMENTARY INFORMATION: The Commission has previously ruled that the Defendants violated section 271 of the Communications Act of 1934, as amended, by providing certain long distance services without authorization. See AT&T Corp. v. U S WEST Communications, Inc., File No. E-97-28, and MCI Telecommunications, Inc. v. U S WEST Communications, Inc., File No. E-97-40A, Memorandum Opinion and Order, 2001 WL 128249, DA 01-418 (Enf. Bur. Feb. 16, 2001) (“Liability Order”). The HDO refers to an Administrative Law Judge the issue of the extent to which Complainants are entitled to damages from U S WEST for the violation of section 271 found in the Liability Order.

Federal Communications Commission.
Bradford M. Berry,
Deputy Chief, Enforcement Bureau.

[FR Doc. 01-19848 Filed 8-7-01; 8:45 am]

BILLING CODE 6712-01-P